DEPARTMENT OF JUSTICE

Notice of Lodging of Proposed Stipulation, Consent Decree and Settlement Agreement Under the Resource Conservation and Recovery Act and the Comprehensive Environmental Response, Compensation, and Liability Act

On November 8, 2013, the Department of Justice lodged a proposed Stipulation, Consent Decree and Settlement Agreement with the United States Bankruptcy Court for the Southern District of New York in In re DPH Holdings Corporation, et al., Civil Action No. 05-44481 (RDD).

Under the settlement, Reorganized Debtor DPH Holdings Corporation, f/k/a Delphi Corporation, and certain of its affiliated Reorganized Debtors have agreed to transfer title to four debtor-owned real properties to an environmental response trust and contribute a total of $23,142,065.00 to the trust to fund clean-up of these properties and the administrative expenses of the trust. The beneficiaries of the environmental response trust will be United States on behalf of the EPA, the State of Michigan on behalf of the Michigan Department of Environmental Quality (“MDEQ”) and the State of Ohio on behalf of the Ohio Environmental Protection Agency (“Ohio EPA”).

The environmental response trust will receive $9,148,524 for the Delphi Automotive Systems Dort Highway Flint East Plant 400 and Plant 500 in Flint, Michigan, $10,425,449 for the former Delphi Saginaw Division Plant 2 in Saginaw, Michigan, $1,191,641 for an inactive asbestos landfill in Rootstown, Ohio, formerly operating under Delphi's Packard Electric/Electronic Architecture Division, and $2,376,451 for the administrative expenses of the trust. The Reorganized Debtors also will pay $157,935 as an allowed administrative expense claim for oversight costs incurred with respect to the Dayton VOC Site in Dayton, Ohio.

The publication of this notice opens a period for public comment on the Stipulation, Consent Decree and Settlement Agreement. Comments should be addressed to the Assistant Attorney General, Environment and Natural Resources Division, and should refer to In re DPH Holdings Corporation, et al., Civil Action No. 05-44481 (RDD), D.J. Ref. No. 90-11-3-08913. All comments must be submitted no later than fifteen (15) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Stipulation, Consent Decree and Settlement Agreement may be examined and downloaded at this Justice Department Web site: http://www.usdoj.gov/enrd/Consent_Decrees.html. We will provide a paper copy of the Stipulation, Consent Decree and Settlement Agreement upon written request and payment of reproduction costs. Please mail your request and payment to: Consent Decree Library, U.S. DOJ—ENRD, P.O. Box 7611, Washington, DC 20044-7611.

Please enclose a check or money order for $21.75 (25 cents per page reproduction cost) payable to the United States Treasury.

Maureen Katz,
Assistant Section Chief, Environmental Enforcement Section, Environment and Natural Resources Division.

[FR Doc. 2013-27341 Filed 11-14-13; 8:45 am]

BILLING CODE P